DEPARTMENT OF AGRICULTURE

Forest Service

Pennington County Resource Advisory Committee

AGENCY: Forest Service, USDA.

ACTION: Notice of meeting.

SUMMARY: The Pennington County Recource Advisory Committee will meet in Rapid City, SD. The committee is meeting as authorized under the Secure Rural Schools and Community Self-Determination Act (Pub. L. 110-343) and in compliance with the Federal Advisory Committee Act. The purpose of the meeting is to receive, review and make recommendations for approval of project proposals.

DATES: The meeting will be held July 26, 2011, at 5 p.m.

ADDRESSES: The meeting will be held at the Mystic Ranger District Office at 8221 South Highway 16. Written comments should be sent to Robert J. Thompson, 8221 South Highway 16, Rapid City, SD 57702. Comments may also be sent via e-mail to rjthompson@fs.fed.us, or via facsimile to 605-343-7134.

All comments, including names and addresses when provided, are placed in the record and are available for public inspection and copying. The public may inspect comments received at the Mystic Ranger District office. Visitors are encouraged to call ahead at 605-343-1567 to facilitate entry into the building.

FOR FURTHER INFORMATION CONTACT: Robert J. Thompson, District Ranger, Mystic Ranger District, 605-343-1567.

Individuals who use telecommunication devices for the deaf (TDD) may call the Federal Information Relay Service (FIRS) at 1-800-877-8339 between 8 a.m. and 8 p.m., Eastern Standard Time, Monday through Friday.

SUPPLEMENTARY INFORMATION: Meetings are open to the public. The following business will be conducted: receive, review and make recommendations for approval of project proposals.

Persons who wish to bring project proposals and/or other matters to the attention of the Committee may submit written proposals to the Committee staff before or after the meeting.

Dated: June 30, 2011.
Craig Bobzien,
Forest Supervisor.

[FR Doc. 2011-17275 Filed 7-8-11; 8:45 am]

BILLING CODE 3410-11-P